DEPARTMENT OF ENERGY

Federal Energy Regulatory Commission

[Project No. P-14862-000]

Douglas Leen; Notice of Intent To File License Application, Filing of Pre-Application Document, and Approving Use of the Traditional Licensing Process

a. Type of Filing: Notice of Intent to File License Application and Request to Use the Traditional Licensing Process.

b. Project No.: P-14862-000.

c. Date Filed: November 14, 2017.

d. Submitted By: Douglas Leen.

e. Name of Project: Kupeanof Microhydro Project.

f. Location: On an unnamed stream, in Petersburg Borough, Alaska. The project occupies 0.1 acres of United States lands administered by U.S. Forest Service.

g. Filed Pursuant to: 18 CFR 5.3 of the Commission's regulations.

h. Potential Applicant Contact: Douglas Leen, P.O. Box 341, Petersburg, AK 99833; (907) 518-0335; mail@dougleen.com.

i. FERC Contact: Ryan Hansen at (202) 502-8074; or email at ryan.hansen@ferc.gov.

j. Mr. Leen filed his request to use the Traditional Licensing Process on November 14, 2017. Mr. Leen provided public notice of his request on November 16, 2017. In a letter dated December 20, 2017, the Director of the Division of Hydropower Licensing approved Mr. Leen's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Alaska State Historic Preservation Officer, as required by section 106, National Historic Preservation Act, and the implementing regulations of the Advisory Council on Historic Preservation at 36 CFR 800.2.

l. Mr. Leen filed a Pre-Application Document (PAD; including a proposed process plan and schedule) with the Commission, pursuant to 18 CFR 5.6 of the Commission's regulations.

m. A copy of the PAD is available for review at the Commission in the Public Reference Room or may be viewed on the Commission's website (http://www.ferc.gov), using the eLibrary link. Enter the docket number, excluding the last three digits in the docket number field to access the document. For assistance, contact FERC Online Support at ferconlinesupport@ferc.gov, (866) 208-3676 (toll free), or (202) 502-8659 (TTY). A copy is also available for inspection and reproduction at the address in paragraph h.

n. Register online at http://www.ferc.gov/docs-filing/esubscription.asp to be notified via email of new filing and issuances related to this or other pending projects. For assistance, contact FERC Online Support.

Dated: December 21, 2017.
Nathaniel J. Davis, Sr.,
Deputy Secretary.

[FR Doc. 2017-28094 Filed 12-27-17; 8:45 am]

BILLING CODE 6717-01-P